SECURITIES AND EXCHANGE COMMISSION

Sunshine Act Meeting

Notice is hereby given, pursuant to the provisions of the Government in the Sunshine Act, Public Law 94-409, that the Securities and Exchange Commission held a Closed Meeting on Saturday, May 12, 2012 at 11:00 a.m.

The General Counsel of the Commission, or his designee, has certified that, in his opinion, one or more of the exemptions as set forth in 5 U.S.C. 552b(c)(4) and (8) and 17 CFR 200.402(a)(4) and (8), permit consideration of the scheduled matter at the Closed Meeting. Certain staff members who have an interest in the matter also were present.

Commissioner Gallagher, as duty officer, voted to consider the item listed for the Closed Meeting in closed session, and determined that no earlier notice thereof was possible.

The subject matter of the May 12, 2012 Closed Meeting was an examination of a financial institution.

Dated: May 14, 2012.
Kevin M. O'Neill,
Deputy Secretary.

[FR Doc. 2012-12020 Filed 5-15-12; 11:15 am]

BILLING CODE 8011-01-P